DEPARTMENT OF TRANSPORTATION

Federal Aviation Administration

14 CFR Part 39

[Docket No. FAA-2005-20869; Directorate Identifier 2004-NM-09-AD]

RIN 2120-AA64

Airworthiness Directives; Dornier Model 328-100 and -300 Series Airplanes

AGENCY: Federal Aviation Administration (FAA), Department of Transportation (DOT).

ACTION: Notice of proposed rulemaking (NPRM).

SUMMARY: The FAA proposes to adopt a new airworthiness directive (AD) for certain Dornier Model 328-100 and -300 series airplanes. This proposed AD would require operators to install colored identification strips on the pulley brackets, fairlead bracket assemblies, operational assemblies, and flight control cables. This proposed AD is prompted by a report that the flight control systems do not have elements that are distinctively identified. We are proposing this AD to prevent the incorrect re-assembly of the flight control system during maintenance, which could result in reduced controllability of the airplane.

DATES: We must receive comments on this proposed AD by May 6, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif

Building, 400 Seventh Street, SW., Washington, DC, between 9 a.m. and 5 p.m., Monday through Friday, except Federal holidays.

For service information identified in this proposed AD, contact AvCraft Aerospace GmbH, P.O. Box 1103, D-82230 Wessling, Germany.

You can examine the contents of this AD docket on the Internet at http://dms.dot.gov, or in person at the Docket Management Facility, U.S. Department of Transportation, 400 Seventh Street, SW., room PL-401, on the plaza level of the Nassif Building, Washington, DC. This docket number is FAA-2005-20869; the directorate identifier for this docket is 2004-NM-09-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-20869; Directorate Identifier 2004-NM-09-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Luftfahrt-Bundesamt (LBA), which is the airworthiness authority for Germany, notified us that an unsafe condition may exist on certain Dornier Model 328-100 and -300 series airplanes. The LBA advises that the flight control systems on these airplane models do not have elements that are distinctively identified. Therefore, we have determined that these systems do not currently comply with Federal Aviation Regulation (FAR) 25.671 (b). FAR 25.671 (b) specifies that “each element of each flight control system must be designed, or distinctively and permanently marked, to minimize the probability of incorrect assembly that could result in the malfunctioning of the system.” Service experience with other airplane models has shown that if the elements of the flight control system are not distinctively and permanently marked, they could be re-assembled incorrectly during maintenance. Incorrect re-assembly of the flight control system during maintenance could result in reduced controllability of the airplane.

Relevant Service Information

Dornier has issued Service Bulletin SB-328J-27-176, Revision 1, dated April 15, 2003, for Dornier Model 328-300 series airplanes; and Service Bulletin SB-328-27-436, Revision 1, dated April 15, 2003, for Dornier Model 328-100 series airplanes.

These service bulletins describe procedures for installing colored identification strips on the pulley brackets, fairlead bracket assemblies, operational assemblies, and flight control cables. Accomplishing the actions specified in the service information is intended to adequately address the unsafe condition.

The LBA mandated the service information and issued German airworthiness directives 2003-376 and 2003-377, both dated November 11, 2003, to ensure the continued airworthiness of these airplanes in Germany.

Concurrent Requirements

The actions in the service bulletins in the following table must be accomplished before, or concurrently with, the actions in the Dornier Service Bulletin SB-328J-27-176, and Dornier Service Bulletin SB-328-27-436.

Concurrent Requirements
Dornier service bulletin | Concurrent Dornier service bulletins | Action
SB-328J-27-176, for Dornier Model 328-300 series airplanes | SB-328J-27-035, dated April 25, 2000 | Relocate the auto-pilot rudder servo.
| SB-328J-27-036, dated April 25, 2000 | Relocate the auto-pilot elevator servo.
| SB-328J-27-037, dated April 25, 2000 | Relocate the auto-pilot aileron servo.
SB-328-27-436, for Dornier Model 328-100 series airplanes | SB-328-27-290, Revision 1, dated December 8, 2000 | Relocate the auto-pilot rudder servo.
| SB-328-27-291, Revision 1, dated December 8, 2000 | Relocate the auto-pilot aileron servo.
| SB-328-27-292, Revision 1, dated December 8, 2000 | Relocate the auto-pilot elevator servo.

FAA's Determination and Requirements of the Proposed AD

These airplane models are manufactured in Germany and are type certificated for operation in the United States under the provisions of section 21.29 of the Federal Aviation Regulations (14 CFR 21.29) and the applicable bilateral airworthiness agreement. Pursuant to this bilateral airworthiness agreement, the LBA has kept the FAA informed of the situation described above. We have examined the LBA's findings, evaluated all pertinent information, and determined that we need to issue an AD for products of this type design that are certificated for operation in the United States.

Therefore, we are proposing this AD, which would require accomplishing the actions specified in the service bulletins described previously, except as discussed under “Difference Between the Proposed AD and the German Airworthiness Directives.”

Difference Between the Proposed AD and the German Airworthiness Directives

The German airworthiness directives recommend that operators install the colored identification strips when the flight control cable is replaced, if that replacement comes before the next scheduled “C-Check or its equivalent.” This proposed AD does not require operators to install the colored identification strips when the flight control cable is replaced, although we recommend that operators do so if the replacement comes before the 24-month compliance time of this proposed AD.

Clarification of Compliance Time

The German airworthiness directives mandate, and the Dornier service bulletins recommend, compliance at the next scheduled “C-check or equivalent.” Because “C-check” schedules vary among operators, this proposed AD would require compliance within 24 months after the effective date of this AD. We find that 24 months correspond to normal scheduled maintenance for most affected operators and that this compliance time is appropriate for the affected airplanes to continue to operate without compromising safety.

Costs of Compliance

The following table provides the estimated costs for U.S. operators to comply with this proposed AD.

Estimated Costs
Action | Work hours | Average labor rate per hour | Parts | Cost per airplane | Number of U.S.- registered airplanes | Fleet cost
Installation | 16 | $65 | $291 | $1,331 | 112 | $149,072

The following table provides the estimated costs for airplanes subject to the concurrent requirements described previously.

Estimated Costs—Concurrent Requirements
Concurrent service bulletin | Work hours | Average labor rate per hour | Parts | Cost per airplane
SB-328-27-290 | 5 | $65 | (1) | $325
SB-328-27-291 | 5 | 65 | (1) | 325
SB-328-27-292 | 5 | 65 | (1) | 325
SB-328J-27-035 | 5 | 65 | $462 | 787
SB-328J-036 | 5 | 65 | 578 | 903
SB-328J-037 | 5 | 65 | (1) | 325
¹ Operator supplied.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fairchild Dornier GmbH (Formerly Dornier Luftfahrt GmbH): Docket No. FAA-2005-20869; Directorate Identifier 2004-NM-09-AD.

Comments Due Date

(a) The Federal Aviation Administration must receive comments on this AD action by May 6, 2005.

Affected ADs

(b) None.

Applicability

(c) This AD applies to Dornier Model 328-100 and -300 series airplanes, certificated in any category; as identified in Dornier Service Bulletin SB-328J-27-176, Revision 1, dated April 15, 2003; and Dornier Service Bulletin SB-328-27-436, Revision 1, dated April 15, 2003; as applicable.

Unsafe Condition

(d) This AD was prompted by a report that the flight control systems do not have elements that are distinctively identified. We are issuing this AD to prevent the incorrect re-assembly of the flight control system during maintenance, which could result in reduced controllability of the airplane.

Compliance

(e) You are responsible for having the actions required by this AD performed within the compliance times specified, unless the actions have already been done.

Installation

(f) Within 24 months after the effective date of this AD, install colored identification strips on the pulley brackets, fairlead bracket assemblies, operational assemblies, and flight control cables, in accordance with the Accomplishment Instructions of Dornier Service Bulletin SB-328J-27-176, Revision 1, dated April 15, 2003; or Dornier Service Bulletin SB-328-27-436, Revision 1, dated April 15, 2003; as applicable.

Prior or Concurrent Requirements

(g) Prior to or concurrently with the accomplishment of the actions in paragraph (f) of this AD, accomplish the actions in the applicable service bulletins listed in Table 1 of this AD.

Table 1.—Prior or Concurrent Requirements
Model | Dornier service bulletin | Revision | Date | Action
328-100 | SB-328-27-290 | 1 | December 8, 2000 | Relocate the auto-pilot rudder servo.
| SB-328-27-291 | 1 | December 8, 2000 | Relocate the auto-pilot aileron servo.
| SB-328-27-292 | 1 | December 8, 2000 | Relocate the auto- pilot elevator servo.
328-300 | SB-328J-27-035 | Original | April 25, 2000 | Relocate the auto-pilot rudder servo.
| SB-328J-27-036 | Original | April 25, 2000 | Relocate the auto-pilot elevator servo.
| SB-328J-27-037 | Original | April 25, 2000 | Relocate the auto-pilot aileron servo.

Alternative Methods of Compliance (AMOCs)

(h) The Manager, International Branch, ANM-116, Transport Airplane Directorate, FAA, has the authority to approve AMOCs for this AD, if requested in accordance with the procedures found in 14 CFR 39.19.

Related Information

(i) German airworthiness directive 2003-376, dated November 11, 2003; and German airworthiness directive 2003-377, dated November 11, 2003; also address the subject of this AD.

Issued in Renton, Washington, on March 24, 2005.
Ali Bahrami,
Manager, Transport Airplane Directorate, Aircraft Certification Service.

[FR Doc. 05-6773 Filed 4-5-05; 8:45 am]

BILLING CODE 4910-13-P